DEPARTMENT OF COMMERCE

International Trade Administration

[C-533-821, C-560-813, C-791-810, C-549-818]

Certain Hot-Rolled Carbon Steel Flat Products From India, Indonesia, South Africa, and Thailand: Extension of Time Limit for Preliminary Determinations in Countervailing Duty Investigations

AGENCY: Import Administration, International Trade Administration, Department of Commerce.

ACTION: Notice of extension of time limit for preliminary determinations in countervailing duty investigations.

SUMMARY: The Department of Commerce is extending the time limit of the preliminary determinations in the countervailing duty (“CVD”) investigations of certain hot-rolled carbon steel flat products from India, Indonesia, South Africa, and Thailand until no later than April 13, 2001. This extension is made pursuant to section 703(c)(1)(B) of the Tariff Act of 1930, as amended by the Uruguay Round Agreements Act.

EFFECTIVE DATE: April 2, 2001.

FOR FURTHER INFORMATION CONTACT: Eric Greynolds (India), at (202) 482-6071; Stephanie Moore (Indonesia), at (202) 482-3692; Sally Gannon (South Africa), at (202) 482-0162; and Dana Mermelstein (Thailand), at (202) 482-1391, Import Administration, U.S. Department of Commerce, 14th Street and Constitution Avenue, NW., Washington, DC 20230.

SUPPLEMENTARY INFORMATION:

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations codified at 19 C.F.R. Part 351 (2000).

Extension of Due Date for Preliminary Determinations

On December 4, 2000, the Department of Commerce (“the Department”) initiated the CVD investigations of certain hot-rolled carbon steel flat products from India, Indonesia, South Africa, and Thailand. See Notice of Initiation of Countervailing Duty Investigations: Certain Hot-Rolled Carbon Steel Flat Products From Argentina, India, Indonesia, South Africa, and Thailand, 65 FR 77580 (December 12, 2000). On January 18, 2001, the Department issued an extension to the preliminary determinations. See Extension of Time Limit for Preliminary Determinations in Countervailing Duty Investigations: Certain Hot-Rolled Carbon Steel Flat Products from India, Indonesia, South Africa, and Thailand, 66 FR 8199 (January 30, 2001) (“Extension Notice”). In that determination the Department found that these investigations are extraordinarily complicated pursuant to section 703(c)(1)(B) of the Act. In that notice, we stated that we were extending the due date only for an additional 45 days rather than the full 65 days (see section 703(c)(1)(B) of the Act). However, we are now amending the Extension Notice to take the full amount of time permitted under the statute to issue these preliminary determinations. Therefore, we are extending the due date for the preliminary determinations to April 13, 2001.

The bases for our decision to take the full amount of time are the same as set forth in the original extension notice (see Extension Notice), and our need to ensure that all of the complex and voluminous information can be fully analyzed.

Accordingly, we continue to find these investigations to be extraordinarily complicated and determine that additional time is necessary to make the preliminary determinations. Therefore, pursuant to section 703(c)(1)(B) of the Act, we are postponing the preliminary determinations in these investigations to no later than April 13, 2001.

This notice is published pursuant to section 703(c)(2) of the Act. Effective January 20, 2001, Bernard T. Carreau is fulfilling the duties of the Assistant Secretary for Import Administration.

Dated: March 26, 2001.
Bernard T. Carreau,
Deputy Assistant Secretary for Import Administration.

[FR Doc. 01-8031 Filed 3-30-01; 8:45 am]

BILLING CODE 3510-DS-P